DEPARTMENT OF HOMELAND SECURITY

U.S. Immigration and Customs Enforcement

[OMB Control Number 1653-0038]

Agency Information Collection Activities: Comment Request; Extension, With Changes, of an Information Collection

AGENCY: U.S. Immigration and Customs Enforcement, Department of Homeland Security.

ACTION: 30-day notice.

The Department of Homeland Security (DHS), U.S. Immigration and Customs Enforcement (USICE) is submitting the following information collection request to the Office of Management and Budget (OMB) for review and clearance in accordance with the Paperwork Reduction Act of 1995. The information collection notice was previously published in the Federal Register on September 18, 2017, Vol. 82 FR 43565, allowing for a 60-day public comment period. USICE did not receive any comment relating to the 60-day notice. The purpose of this notice is to allow an additional 30 days for public comments.

The burden estimates have been revised since the 60-day notice to better reflect the number of potential respondents to the collection. Written comments and/or suggestions regarding the items contained in this notice, especially regarding the estimated public burden and associated response time, must be directed to the OMB Desk Officer for U.S. Immigration and Customs Enforcement, Department of Homeland Security and sent via electronic mail to dhsdeskofficer@omb.eop.gov. All submissions received must include the agency name and the OMB Control Number 1653-0038.

Written comments and suggestions from the public and affected agencies should address one or more of the following four points:

(1) Evaluate whether the proposed collection of information is necessary for the proper performance of the functions of the agency, including whether the information will have practical utility;

(2) Evaluate the accuracy of the agencies estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of This Information Collection

(1) Type of Information Collection: Extension, With Changes, of a Currently Approved Collection.

(2) Title of the Form/Collection: Student and Exchange Visitor Information System (SEVIS).

(3) Agency form number, if any, and the applicable component of the Department of Homeland Security sponsoring the collection: Forms I-17 and I-20; U.S. Immigration and Customs Enforcement.

(4) Affected public who will be asked or required to respond, as well as a brief abstract: Primary Non-profit institutions and individuals or households. SEVIS is an internet-based data-entry, collection and reporting system. It collects information on SEVP-certified schools via the Form I-17, “Petition for Approval of School for Attendance by Nonimmigrant Student,” and collects information on the F and M nonimmigrant students that the SEVP-certified schools admit into their programs of study via the Forms I-20s: “Certificate of Eligibility for Nonimmigrant (F-1) Student Status—For Academic and Language Students” and “Certificate of Eligibility for Nonimmigrant (M-1) Student Status—For Vocational Students”.

(5) An estimate of the total number of respondents and the amount of time estimated for an average respondent to respond:

Number of respondents | Form name/form number | Average burden per response (in hours)
37,780 | Petition for Approval of School for Attendance by Nonimmigrant Student/Initial, Updates and Maintenance of SEVP Certification—ICE Form I-17 | 22.083
37,780 | Certificate of Eligibility for Nonimmigrant—ICE Forms I-20 (F-1/M-1 Students/Initial and Updates | 0.645
37,780 | Certificate of Eligibility for Nonimmigrant—ICE Forms I-20 (F-2/M-2 Dependents | 0.099
37,780 | Optional Practical Training | 0.166

(6) An estimate of the total public burden (in hours) associated with the collection: 3,555,637 annual burden hours.

Dated: January 4, 2018.
Scott Elmore,
PRA Clearance Officer, Office of the Chief Information Officer, U.S. Immigration and Customs Enforcement, Department of Homeland Security.

[FR Doc. 2018-00224 Filed 1-9-18; 8:45 am]

BILLING CODE 9111-28-P